NUCLEAR WASTE TECHNICAL REVIEW BOARD

Board Meeting; August 24, 2016—DOE Work on Integrating Different Canister Designs for Storage and Disposal of SNF

Pursuant to its authority under section 5051 of Public Law 100-203, Nuclear Waste Policy Amendments Act (NWPAA) of 1987, and in accordance with its mandate to review the technical and scientific validity of U.S. Department of Energy (DOE) activities related to implementing the Nuclear Waste Policy Act of 1982, the U.S. Nuclear Waste Technical Review Board will meet in Washington, DC on August 24, 2016, to review DOE activities related to integrating the management and disposal of the many different designs of canisters for spent nuclear fuel (SNF) and high-level radioactive waste (HLW) that are currently in service and under development.

The meeting will be held at the Westin Washington, DC City Center Hotel, 1400 M Street NW., Washington, DC 20005, 202-429-1700. A block of rooms has been reserved for meeting attendees at a rate of $149.00 per night. Reservations may be made by phone: (888) 627-9035 or online: https://www.starwoodmeeting.com/events/start.action?id=1512302524&key=12331FD9. Reservations must be made by Monday, August 1, 2016, to ensure receiving the meeting rate. On-site parking at the hotel is available for an overnight rate of $59 or a daily rate of $28.00.

The meeting will begin at 8:00 a.m. on Wednesday, August 24, 2016, and is scheduled to adjourn at 5:00 p.m. Among the topics to be discussed at the meeting are descriptions of the canister types currently used and being developed for storing and transporting SNF and HLW, DOE's efforts to create an integrated program for managing and disposing of SNF and HLW canisters, and nuclear industry perspectives on DOE's efforts to develop standardized canisters for commercial SNF. The meeting agenda will be available on the Board's Web site: www.nwtrb.gov approximately one week before the meeting. The agenda may also be requested by email or telephone at that time from Davonya Barnes of the Board's staff.

The meeting will be open to the public, and opportunities for public comment will be provided before the lunch break and at the end of the day. Those wanting to speak are encouraged to sign the “Public Comment Register” at the check-in table. Depending on the number of people who sign up to speak, it may be necessary to set a time limit on individual remarks. However, written comments of any length may be submitted, and all comments received in writing will be included in the record of the meeting, which will be posted on the Board's Web site after the meeting. The meeting will be webcast at: https://www.webcaster4.com/Webcast/Page/909/15610, and an archived version of the webcast will be available on the Board's Web site following the meeting. The transcript of the meeting will be available on the Board's Web site no later than September 9, 2016.

The Board was established in the NWPAA as an independent federal agency in the Executive Branch to evaluate the technical and scientific validity of DOE activities related to management and disposal of SNF and HLW and to provide objective expert advice to Congress and the Secretary of Energy on these issues. Board members are experts in their fields and are appointed to the Board by the President from a list of candidates submitted by the National Academy of Sciences.

The Board reports its findings, conclusions, and recommendations to Congress and the Secretary of Energy. All Board reports, correspondence, congressional testimony, and meeting transcripts and related materials are posted on the Board's Web site. For information on the meeting agenda, contact Daniel Ogg: ogg@nwtrb.gov or Karyn Severson: severson@nwtrb.gov. For information on lodging or logistics, contact Eva Moore: moore@nwtrb.gov. To request copies of the meeting agenda or the transcript, contact Davonya Barnes: barnes@nwtrb.gov. All four can be reached by mail at 2300 Clarendon Boulevard, Suite 1300, Arlington, VA 22201-3367; by telephone at 703-235-4473; or by fax at 703-235-4495.

Dated: July 15, 2016.
Nigel Mote,
Executive Director, U.S. Nuclear Waste Technical Review Board.

[FR Doc. 2016-17153 Filed 7-19-16; 8:45 am]

BILLING CODE 6820-AM-P